ENVIRONMENTAL PROTECTION AGENCY

[EPA-HQ-RCRA-2006-0796; FRL-8524-4]

RIN 2050-AE81

Notice of Data Availability on the Disposal of Coal Combustion Wastes in Landfills and Surface Impoundments; Reopening of Comment Period

AGENCY: Environmental Protection Agency (EPA).

ACTION: Notice of Data Availability; Reopening of Comment Period.

SUMMARY: The Environmental Protection Agency (EPA) is reopening the comment period for the Notice of Data Availability (NODA) entitled “Notice of Data Availability on the Disposal of Coal Combustion Wastes in Landfills and Surface Impoundments.” This NODA announces the availability of new information and data concerning the management of coal combustion wastes (CCW) in landfills and surface impoundments that will be used by the Agency to inform its decisionmaking regarding its Regulatory Determination for CCW disposed of in landfills and surface impoundments. This NODA was published on August 29, 2007 (72 FR 49714), and the comment period was scheduled to close on November 27, 2007. However, a number of environmental groups requested additional time to respond to the issues raised in the NODA and its accompanying documents. Consequently, the Agency extended the comment period an additional 60 days to January 28, 2008 (72 FR 57572). The same group of commenters then requested a short amount of additional time to finish gathering information that they believe is necessary to complete their comments. Therefore, we are reopening the comment period from the date of publication of this notice to close on February 11, 2008.

DATES: The comment period is reopened from the date of publication of this notice to close on February 11, 2008.

ADDRESSES: Submit your comments, identified by Docket ID No. EPA-HQ-RCRA-2006-0796, by one of the following methods:

• http://www.regulations.gov: Follow the on-line instructions for submitting comments.

• E-mail: Comments may be sent by electronic mail (e-mail) to: rcra-docket@epa.gov, Attention Docket ID No. EPA-HQ-RCRA-2006-0796. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

• Fax: Comments may be faxed to 202-566-9744. Attention Docket ID No. EPA-HQ-RCRA-2006-0796.

• Mail: Send two copies of your comments to Notice of Data Availability on the Disposal of Coal Combustion Wastes in Landfills and Surface Impoundments, Environmental Protection Agency, Mailcode: 5305T, 1200 Pennsylvania Ave., NW., Washington, DC 20460. Attention Docket ID No. EPA-HQ-RCRA-2006-0796.

• Hand Delivery: Deliver two copies of your comments to the Notice of Data Availability on the Disposal of Coal Combustion Wastes in Landfills and Surface Impoundments Docket, EPA/DC, EPA West, Room 3334, 1301 Constitution Ave., NW., Washington, DC 20460. Attention Docket ID No. EPA-HQ-RCRA-2006-0796. Such deliveries are only accepted during the docket's normal hours of operation (8:30 a.m. to 4:30 p.m., Monday through Friday, excluding legal holidays), and special arrangements should be made for deliveries of boxed information.

Instructions: Direct your comments to Docket ID No. EPA-HQ-RCRA-2006-0796. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm. We also request that interested parties who would like information they previously submitted to EPA to be considered as part of this action, identify the relevant information by docket entry numbers and page numbers. For additional instructions on submitting comments, go to the SUPPLEMENTARY INFORMATION section of this document.

FOR FURTHER INFORMATION CONTACT: Alexander Livnat, Office of Solid Waste (5306P), U.S. Environmental Protection Agency, Ariel Rios Building, 1200 Pennsylvania Avenue, NW., Washington, DC 20460-0002, telephone (703) 308-7251, e-mail address livnat.alexander@epa.gov. For more information on this rulemaking, please visit http://www.epa.gov/epaoswer/other/fossil/index.htm/.

SUPPLEMENTARY INFORMATION: The NODA that is the subject of this notice, and which was published in the Federal Register on August 29, 2007 (72 FR 49714), announces the availability of new information and data contained in three documents that the Agency is requesting public comments on, concerning the management of CCW in landfills and surface impoundments. The three documents that the Agency is requesting comments on are: A joint U.S. Department of Energy (DOE) and EPA report entitled, Coal Combustion Waste Management at Landfills and Surface Impoundments, 1994-2004; a draft risk assessment conducted by EPA on the management of CCW in landfills and surface impoundments; and EPA's damage case assessment. The Agency is soliciting comments on the extent to which the damage case information, the results of the risk assessment, and the new liner and ground water monitoring information from the DOE/EPA report should affect the Agency's decisions. EPA is also requesting direct comment on the draft risk assessment document to help inform a planned peer review. In addition, the Agency has included in the docket to the NODA a rulemaking petition submitted by a number of citizens' groups, as well as two approaches regarding the management of CCW, one prepared by the electric utility industry and the other prepared by a number of citizens' groups. The Agency will consider all the information provided through the NODA, the comments and new information submitted on the NODA, as well as the results of a subsequent peer review of the risk assessment, as it continues to follow-up on its Regulatory Determination for CCW disposed of in landfills and surface impoundments.

The comment period for the NODA was scheduled to close on November 27, 2007. However, a number of environmental groups requested that EPA extend the comment period by 75 days, noting that additional time was needed in order to comment meaningfully on the information contained in the NODA and to perform extensive analysis on several documents, some of which are highly technical. The commenters also noted that, due to the length and complexity of the draft risk assessment (Human and Ecological Risk Assessment of Coal Combustion Wastes), it would be necessary to engage expert review that will consequently increase the time necessary to prepare their comments.

EPA believed that the 90-day public comment period originally established was reasonable. However, since the Agency will be considering all the information provided through the comments and new information submitted on the NODA, as well as the results of a subsequent peer review of the risk assessment, we believed it was important that commenters have adequate time to analyze the data noticed in the NODA so that they may provide informed and meaningful comments to the Agency. Therefore, we decided to extend the comment period by 60 days, thereby extending the comment period to 150 days. We believed an additional 60 days was adequate for commenters to analyze the data noticed in the NODA and available in the docket to the NODA. Because the 60-day extension would have ended on January 26, 2008, which is a Saturday, the comment period was extended until the following Monday, January 28, 2008.

The same group of commenters, noted above, requested a short amount of additional time to finish gathering information that is necessary to complete their comments. We believe this request is reasonable given the nature and volume of materials provided for comment; therefore, we are reopening the comment period from the date of publication of this notice to close on February 11, 2008.

Dated: January 29, 2008.
Susan Parker Bodine,
Assistant Administrator, Office of Solid Waste and Emergency Response.

[FR Doc. E8-2063 Filed 2-4-08; 8:45 am]

BILLING CODE 6560-50-P